DEPARTMENT OF COMMERCE

International Trade Administration

[A-588-804]

Antifriction Bearings (Other Than Tapered Roller Bearings) and Parts Thereof From Japan; Amended Final Results of Antidumping Duty Administrative Reviews

AGENCY: Import Administration, International Trade Administration, Department of Commerce.

ACTION: Notice of final court decision and amended final results of administrative reviews.

SUMMARY: On April 10, 2003, the United States Court of Appeals for the Federal Circuit affirmed the United States Court of International Trade's affirmation of the Department of Commerce's final remand results affecting final assessment rates for the administrative reviews of the antidumping duty orders on antifriction bearings (other than tapered roller bearings) and parts thereof from Japan with respect to NTN Corporation and Koyo Seiko Co. Ltd. and the period May 1, 1997, through April 30, 1998. The classes or kinds of merchandise covered by these reviews are ball bearings and parts thereof, cylindrical roller bearings and parts thereof, and spherical plain bearings and parts thereof. As there is now a final and conclusive court decision in these actions, we are amending our final results of reviews and we will instruct the Bureau of Customs and Border Protection (BCBP) to liquidate entries subject to these reviews.

EFFECTIVE DATE: July 24, 2003.

FOR FURTHER INFORMATION CONTACT: Jennifer Moats or Richard Rimlinger, AD/CVD Enforcement Group I, Office 3, Import Administration, International Trade Administration, U.S. Department of Commerce, 14th Street and Constitution Avenue, NW., Washington, DC 20230; telephone: 202-482-5047 or 202-482-4477, respectively.

SUPPLEMENTARY INFORMATION:

Background

On July 1, 1999, the Department of Commerce (the Department) published Antifriction Bearings (Other Than Tapered Roller Bearings) and Parts Thereof From France, Germany, Italy, Japan, Romania, Sweden, and the United Kingdom: Final Results of Antidumping Duty Administrative Reviews, 64 FR 35590, and on September 1, 1999, it published Antifriction Bearings (Other Than Tapered Roller Bearings) and Parts Thereof From Italy and Japan; Notice of Amended Final Results of Antidumping Duty Administrative Reviews, 64 FR 47764 (collectively, AFBs 9), which covered the period May 1, 1997, through April 30, 1998. The Japanese companies covered by the reviews are NTN Corporation (NTN), NSK Ltd. (NSK), Koyo Seiko Co., Ltd. (Koyo), Nippon Pillow Block Manufacturing Company (NPBS), and Nachi Fujikoshi (Nachi). The classes or kinds of merchandise covered by these reviews are ball bearings and parts thereof (BBs), cylindrical roller bearings and parts thereof (CRBs), and spherical plain bearings and parts thereof (SPBs). Torrington, NSK, NTN, and Koyo appealed our determination in AFBs 9.

On May 10, 2001, the Court of International Trade (CIT) issued an order in The Torrington Company v.United States, Consol. Court No. 99-08-00462, Slip Op. 01-56 (May 10, 2001) (Torrington), remanding AFBs 9 to the Department (First Remand). In Torrington, the CIT remanded AFBs 9 to the Department to make the following changes: (1) Annul all findings and conclusions made pursuant to the duty-absorption inquiry conducted for these reviews; (2) clarify what action it took with respect to inputs that NTN obtained from affiliated parties, to articulate the reasoning for this action, and to open the record for additional information, if found necessary; and (3) articulate what methodology it used in conducting the arm's-length test and to apply the test in accordance with 19 CFR 351.403(c) (1998). The First Remand affected the Department's calculations for NTN and Koyo with respect to the antidumping duty orders on BBs, CRBs, and SPBs from Japan for the period May 1, 1997, through April 30, 1998.

The Department submitted its First Remand Results to the CIT on August 8, 2001. On November 26, 2001, the CIT remanded our results a second time (Second Remand). On May 20, 2002, the CIT affirmed the Second Remand Results in their entirety. See The Torrington Company v.United States, 206 F.Supp 2d 1296, Sup Op. 0246 (Torrington II). NTN appealed the CIT's ruling in Torrington II. On April 10, 2003, the United States Court of Appeals for the Federal Circuit (CAFC) affirmed the judgment of Torrington II. See The Torrington Company v.United States, Fed. Circ. 02-1520.

Amendment to Final Results

The time period for appealing the CAFC's Final Decision has expired and no party has appealed this decision. Pursuant to section 516A(e) of the Tariff Act of 1930, as amended, as there is now a final and conclusive court decision with respect to litigation for NTN and Koyo, we are now amending the final results of administrative reviews of the antidumping duty orders on antifriction bearings (other than tapered roller bearings) and parts thereof from Japan for the period May 1, 1997, through April 30, 1998, to reflect the findings of the Second Remand Results. The rates for NTN for this period are as follows: 4.18 for BBs, 3.63 for CRBs, and 1.44 for SPBs. There are no rate changes for Koyo.

Assessment Rates

The Department will determine, and the BCBP shall assess, antidumping duties on all appropriate entries. In accordance with 19 CFR 351.212(b)(1), we have calculated an importer/customer-specific assessment rate for merchandise subject to this review. Where the importer/customer-specific assessment rate is above de minimis, we will instruct the BCBP to assess antidumping duties on that importer's entries of subject merchandise. The Department will issue appropriate assessment instructions directly to the BCBP within 15 days of publication of these amended final results of review. We will direct the BCBP to assess the resulting assessment rates for the subject merchandise on each of the importer/customer's entries during the review period.

Notification

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective order (APO) of their responsibility concerning the disposition of proprietary information disclosed under APO in accordance with 19 CFR 351.305. Timely written notification of return/destruction of APO materials or conversion to judicial protective order is hereby requested. Failure to comply with the regulations and the terms of an APO is a sanctionable violation.

This notice is published pursuant to section 751(a) of the Act.

Dated: July 18, 2003.
Jeffrey May,
Acting Assistant Secretary for Grant Aldonas, Under Secretary.

[FR Doc. 03-18863 Filed 7-23-03; 8:45 am]

BILLING CODE 3510-DS-P